ENVIRONMENTAL PROTECTION AGENCY

[FRL-8531-4]

Public Water System Supervision Program Variance and Exemption Review for the State of Montana

AGENCY: Environmental Protection Agency.

ACTION: Notice.

SUMMARY: The Environmental Protection Agency (EPA), Region 8 will conduct a statutory review of variances and exemptions issued by the State of Montana under the Safe Drinking Water Act (SDWA) Public Water System Supervision (PWSS) program. The SDWA, 42 U.S.C. 300 et seq., requires that EPA periodically review variances and exemptions issued by states with primary enforcement authority to determine compliance with requirements of the statute 42 U.S.C. 300g-4(e)(8); 42 U.S.C. 300g-5(d). In accordance with these provisions in the SDWA, and its regulations, EPA is giving public notice that the EPA, Region 8 will conduct a review of the variances and exemptions issued by the State of Montana to Public Water Systems under its jurisdiction. The review will be conducted during February, 2008.

The public is invited to submit comments on any or all variances and/or exemptions issued by the State of Montana, and on the need for continuing them, by March 15, 2008. Results of this review will be published in the Federal Register.

ADDRESSES: Comments on variances and exemptions issued by the State of Montana should be addressed to: Robert E. Roberts, Regional Administrator, c/o Eric Finke, U.S. EPA, Region 8, Montana Office, 10 West 15th Street, Suite 3200, Helena, Montana 59620.

All data and other information with respect to the variances and exemptions issued by the State of Montana are located at the Montana Department of Environmental Quality, Public Water Subdivisions Bureau, Lee Metcalf Building, 1520 East 6th Avenue, Helena, Montana 59620.

FOR FURTHER INFORMATION CONTACT: Eric Finke at 406-457-5024 or finke.eric@epa.gov.

SUPPLEMENTARY INFORMATION: Montana has an EPA approved program for primary enforcement authority for the PWSS program, pursuant to section 1413 of the Safe Drinking Water Act (SDWA), 42 U.S.C. 300g-2 and 40 CFR 142.22.

A. Why do states issue variances and exemptions?

States with primary enforcement authority are authorized to grant variances and exemptions from National Primary Drinking Water Regulations to specific public water systems, provided these variances and exemptions meet the requirements of the SDWA, sections 1415 and 1416, and are protective of public health.

B. Why is a review of the variances and exemptions necessary?

Montana is authorized to grant variances and exemptions to drinking water systems in accordance with the SDWA. The SDWA requires that EPA periodically review State issued variances and exemptions to determine compliance with the Statute. 42 U.S.C. 300g-4(e)(8); 42 U.S.C.300g-5(d).

Dated: February 12, 2008.
Judith Wong,
Acting Regional Administrator, Region 8.

[FR Doc. E8-3233 Filed 2-20-08; 8:45 am]

BILLING CODE 6560-50-P